DEPARTMENT OF ENERGY

Senior Executive Service; Performance Review Board

AGENCY: Department of Energy.

ACTION: SES Performance Review Board Standing Register.

SUMMARY: This notice provides the Performance Review Board Standing Register for the Department of Energy. This listing supersedes all previously published lists of PRB members.

EFFECTIVE DATE: These appointments are effective as of September 30, 2003.

ACKERLY, LAWRENCE R

ALLISON, JEFFREY M

ANDERSON, CHARLES E

ANDERSON, MARGOT H

ANGULO, VERONICA A

AOKI, STEVEN NMN

ARKIN, RICHARD W

ARTHUR III, WILLIAM JOHN

ASCANIO, XAVIER NMN

BACA, FRANK A

BACA, MARK C

BAILEY JR, LAWRENCE O

BAJURA, RITA A

BAKER, KENNETH E

BALLARD, WILLIAM W

BARKER JR, WILLIAM L

BASHISTA, JOHN R

BAUER, CARL O

BECK, DAVID E

BECKETT, THOMAS H

BEECY, DAVID J

BESERRA, FRANK J

BIELAN, DOUGLAS J

BIENIAWSKI, ANDREW J

BILSON, HELEN E

BLACK, RICHARD L

BLACK, STEVEN K

BLACKWOOD, EDWARD B

BLADOW, JOEL K

BOARDMAN, KAREN L

BORCHARDT, CHARLES A

BORGSTROM, CAROL M

BORGSTROM, HOWARD G

BOWMAN, GERALD C

BOYD, GERALD G

BRADEN JR, ROBERT C

BRADLEY, SAMUEL M

BRENDLINGER, TERRY L

BREWER, ROBERT H

BREZNAY, GEORGE B

BROCOUM, STEPHAN J

BRODMAN, JOHN R

BROMBERG, KENNETH M

BRONSTEIN, ELI B

BROWN III, ROBERT J

BROWN, RICHARD D

BRUMLEY, WILLIAM J

BUBAR, PATRICE M

BURNS, ALLEN L

BURROWS, CHARLES W

BUTLER, JEROME M

BUTLER, ROGER A

CAMPBELL, ELIZABETH E

CAMPBELL, JAMES THOMAS

CARABETTA, RALPH A

CARAVELLI, JOHN M

CARDINALI, HENRY A

CAREY JR, ROBERT H

CARLSON, JOHN T

CARLSON, KATHLEEN ANN

CARY, STEVEN V

CAVANAGH, JAMES J

CHACEY, KENNETH A

CHALK, STEVEN G

CHANEY, KIMBERLY A HAYES

CHUN, SUN W

CLARK, JOHN R

COBURN, LEONARD L

COMBS, MARSHALL O

CONOVER, DAVID W

CONTI, JOHN J

COOK, JOHN S

COREY, RAY J

COSTLOW, BRIAN D

COWAN, GWENDOLYN S

CRAIG JR, JACK R

CRANDALL, DAVID H

CRAWFORD, DAVID W

CROSS, CLAUDIA A

CROWE, RICHARD C

CUMESTY, EDWARD G

CURTIS, JAMES H

CYGELMAN, ANDRE I

D'AGOSTINO, THOMAS PAUL

DAVIES, NELIA A

DE LORENZO, RALPH H

DECKER, JAMES F

DEDIK, PATRICIA NMN

DEGRASSE JR, ROBERT W

DEHMER, PATRICIA M

DEHORATIIS JR, GUIDO NMN

DEIHL, MICHAEL A

DELWICHE, GREGORY K

DEMKO, JOSEPH C

DENNISON, WILLIAM J

DER, VICTOR K

DEVER, GERTRUDE L

DIFIGLIO, CARMEN NMN

DIXON, ROBERT K

DOBRIANSKY, LARISA E

DOGGETT, FREDERICK D

DOOLEY III, GEORGE J

DURNAN, DENIS D

DYER, J RUSSELL

EDMONDSON, JOHN J

EGGER, MARY H

ELWOOD, JERRY W

ERICKSON, LEIF NMN

ERICKSON, RALPH E

ERRINGTON, GORDON V

ESVELT, TERENCE G

EVANS, KAREN S

FAULKNER, DOUGLAS L

FIORE, JAMES J

FITZGERALD, CHERYL P

FOLEY, KATHLEEN Y

FOWLER, JENNIFER JOHNSON

FRANKLIN, CHARLES ANSON

FRAZIER, MARVIN E

FREI, MARK W

FRESCO, MARYANN E

FRYBERGER, TERESA A

FYGI, ERIC J

GALE, BARRY G

GARCIA, MARVIN L

GARLAND, ROBERT W

GARRISH, THEODORE J

GARSON, HENRY K

GEBUS, GEORGE R

GERRARD, JOHN E

GIBSON JR, WILLIAM C

GILBERTSON, MARK A

GINSBERG, MARK B

GLENN, DANIEL E

GLOTFELTY, JAMES W

GOLAN, PAUL M

GOLDSMITH, ROBERT NMN

GOLLOMP, LAWRENCE A

GOODRUM, WILLIAM S

GORDON-HAGERTY, LISA E

GOTTLIEB, PAUL A

GREENBERG, RAYMOND F

GREENWOOD, JOHNNIE D

GRESHAM, LARRY M

GROSE, AMY E

GROSS, THOMAS J

GRUENSPECHT, HOWARD K

GUEVARA, ARNOLD E

GUNN JR, MARVIN E

HACSKAYLO, MICHAEL S

HAFNER, STEVEN C

HANSEN, CHARLES A

HARDIN, MICHAEL G

HARDWICK JR, RAYMOND J

HARRIS, ROBERT J

HARTMAN, JAMES K

HARTMAN, JOHN R

HARVEY, JOHN R

HARVEY, TOBIN K

HASS, RICKEY R

HAWTHORNE, JOAN GATES

HEADLEY, LARRY C

HENDERSON, SHANNON D

HIBBITTS JR, HOWARD D

HICKOK, STEVEN G

HILL, DAVID R

HIRAHARA, JAMES S

HODSON, PATRICIA J

HOLLAND, MICHAEL D

HOLLANDER, MARC S

HOLLOWELL, BETTY L N

HOOD, ROBERT R

HOPF, RICHARD H

HUIZENGA, DAVID G

HUNEMULLER, MAUREEN A

HUTZLER, MARY JEAN

IZELL, KATHY D

JAFFE, HAROLD NMN

JENKINS, ROBERT G

JOHNSON, FREDERICK M

JOHNSON, MILTON D

JOHNSON, OWEN B

JOHNSON, ROBERT SHANE

JOHNSON, SANDRA L

JOHNSTON, MARC NMN

JONES, C RICK

JONES, HERBERT M

JORDAN, ROBERT R

JORDAN, ROSALIE M

JOSEPH, ANTIONETTE GRAYSO

JUAREZ, LIOVA D

JUCKETT, DONALD A

KAEMPF, DOUGLAS E

KANE, MICHAEL C

KELLIHER, JOSEPH T

KENNEDY, JOHN P

KERSTEN, JOHN H

KESELBURG, JAMES D

KESSLER, ELIZABETH A

KIGHT, GENE H

KILGORE, WEBSTER C

KILPATRICK, MICHAEL A

KIRKENDALL, NANCY J

KIRKMAN, LARRY D

KLEIN, KEITH A

KNIPP, ROBERT M

KNOX, ERIC K

KOLB, INGRID A C

KOLEVAR, KEVIN M

KONOPNICKI, THAD T

KOTEK, JOHN F

KOUTS, CHRISTOPHER A

KOVAR, DENNIS G

KRUGER, PAUL W

LAMBERT, JAMES B

LANGE, ROBERT G

LANTHRUM, J GARY

LAWRENCE, ANDREW C

LAZOR, JOHN D

LEE, STEVEN NMN

LEHMAN, DANIEL R

LERSTEN, CYNTHIA A

LEVIN JR, WILLIAM B

LEWIS III, CHARLES B

LEWIS JR, WILLIAM A

LEWIS, ROGER A

LOPATTO, JEANNE T

LOWE, OWEN W

LUCZAK, JOANN H

MADDOX, MARK R

MAGWOOD IV, WILLIAM D

MAHALEY, JOSEPH S

MAHARAY, WILLIAM S

MAHER, MARK W

MALE, BARBARA D

MALOSH, GEORGE J

MANGENO, JAMES J

MANN, THOMAS O

MARCUS, GAIL H

MARKEL JR, KENNETH E

MARKS JR, DAVID L

MARLAY, ROBERT C

MARMOLEJOS, POLI A

MASTERSON, MARY A

MC CABE, MICHAEL J

MCCLOUD, FLOYD R

MCCORMICK, MATTHEW S

MCCRACKEN, STEPHEN H

MCKEE, BARBARA N

MCKENZIE, JOHN M

MCMONIGLE, JOSEPH P

MCMULLAN, ROBERT L

MCRAE, JAMES BENNETT

MEEKS, TIMOTHY J

MELLINGTON, SUZANNE P

MEYER, CHARLES E

MICHELSEN, STEPHEN J

MILLER, CLARENCE L

MILLER, DEBORAH C

MILLHONE, JOHN P

MILNER, RONALD A

MIOTLA, DENNIS M

MONETTE, DEBORAH D

MONHART, JANE L

MOORER, RICHARD F

MORRELL, PAUL CHARLES

MOSQUERA, JAMES P

MOURNIGHAN, STEPHEN D

MUELLER, TROY J

MURPHIE, WILLIAM E

MURPHY, ALICE Q

NAPLES, ELMER M

NEALY, CARSON L

NEWELL, JOHN D

NOLAN, ELIZABETH A

NORMAN, PAUL E

NULTON, JOHN D

O BRIEN, BETSY K

O'DONOVAN, KEVIN M

O'FALLON, JOHN R

OLINGER, SHIRLEY J

OLIVER, LAWRENCE R

OLIVER, STEPHEN R

OLSON, DEAN G

OOSTERMAN, CARL H

OSHEIM, ELIZABETH L

OTT, MERRIE CHRISTINE

OWEN, MICHAEL W

OWENDOFF, JAMES M

OWENS, KAREN A

PARKS JR, WILLIAM P

PARNES, SANFORD J

PATRINOS, ARISTIDES A

PEARSON, ORIN F

PEASE, HARRISON G

PENRY, JUDITH M

PERIN, STEPHEN G

PETERSON, BRADLEY A

PETTENGILL, HARRY J

PIPER II, LLOYD L

PODONSKY, GLENN S

POE, ROBERT W

POWERS, JAMES G

POWERS, KENNETH W

PRICE JR, ROBERT S

PROVENCHER, RICHARD B

PRZYBYLEK, CHARLES S

PRZYSUCHA, JOHN L

PUMPHREY, DAVID L

RAPUANO, KENNETH P

REED, CRAIG R

RHODERICK, JAY E

RICHARDS, STEPHEN R

RICHARDSON, HERBERT NMN

RISPOLI, JAMES A

ROACH, RANDY A

ROBERTS, MICHAEL NMN

ROBISON, SALLY A

RODEHEAVER, THOMAS N

RODEKOHR, MARK E

RODGERS, STEPHEN J

RODIN, LAURA M

ROLLOW, THOMAS A

ROSEN, SIMON PETER

RUDINS, GEORGE NMN

RUSSO, FRANK B

RYDER, THOMAS S

SALM, PHILIP E

SALMON, JEFFREY T

SATO, WALTER N

SCHEPENS, ROY J

SCHLARMAN, GLENN R

SCHMITT, EUGENE C

SCHMITT, WILLIAM A

SCHNAPP, ROBERT M

SCHOENBAUER, MARTIN J

SCHWEITZER, ERIC A

SCHWIER, JEAN F

SCOTT, BRUCE B

SCOTT, RANDAL S

SELLERS, ELIZABETH D

SHAGES, JOHN D

SHARPLEY, CHRISTOPHER R

SHAW, JOHN S

SHEARER, ELIZABETH L

SHEPPARD, CATHERINE M

SHERMAN, HELEN O

SIGAL, JILL L

SILBERGLEID, STEVEN A

SIMPSON, CHRISTOPHER NMN

SIMPSON, EDWARD R

SINGER, MARVIN I

SISKIN, EDWARD J

SITZER, SCOTT B

SKUBEL, STEPHEN C

SLUTZ, JAMES A

SMITH, ALAN C

SMITH, ALEXANDRA B

SMITH, DENISE H

SMITH, STEPHEN M

SNIDER, LINDA J

SOHINKI, STEPHEN M

SOLICH, DONALD J

STAFFIN, ROBIN NMN

STALLMAN, ROBERT M

STARK, RICHARD M

STEVENS, WALTER J

STONE, BARBARA R

STRAKEY JR, JOSEPH P

STRAUSS, NEAL J

SULLIVAN, DANIEL J

SULLIVAN, JOHN R

SWAILES, JOHN H

SWIFT, JUSTIN R

SWINK, DENISE F

SYLVESTER, WILLIAM G

TABOAS, ANIBAL L

TAVARES, ANTONIO F

TAYLOR, WILLIAM J

TEDROW, RICHARD T

TORKOS, THOMAS M

TRAUTMAN, STEPHEN J

TRIAY, INES R

TURI, JAMES A

TURNER, CLARKE D

TURNER, JAMES M

UNDERWOOD, WILLIAM R

VAGTS, KENNETH A

VALDEZ, WILLIAM J

VANZANDT, VICKIE A

VIETH, JILL SCHROEDER

WAGNER, M PATRICE

WAHLQUIST, EARL J

WAISLEY, SANDRA L

WALLACE, TERRY L

WALSH, ROBERT J

WARNICK, WALTER L

WARTHER, ROBERT F

WEEDALL, MICHAEL J

WEIS, MICHAEL J

WHITAKER JR, MARK B

WIEKER, THOMAS L

WILCHER, LARRY D

WILKEN, DANIEL H

WILLIAMS, ALICE C

WILLIAMS, MARK H

WILLIAMS, RICHARD N

WILLINGHAM JR, FRANK M

WILLIS, JOHN W

WILMOT, EDWIN L

WORTHINGTON, PATRICIA R

WRIGHT, STEPHEN J

WUNDERLICH, ROBERT C

YUAN-SOO HOO, CAMILLE C

ZAMORSKI, MICHAEL J

ZIEGLER, JOSEPH D

ZIESING, ROLF F

Issued in Washington, DC on October 14, 2003.
Claudia A. Cross,
Chief Human Capital Officer/Director, Office of Human Resources Management.

[FR Doc. 03-26402 Filed 10-17-03; 8:45 am]

BILLING CODE 6450-01-P